DEPARTMENT OF THE INTERIOR

Bureau of Reclamation

Proposed Lower Yuba River Accord, Yuba County, CA

AGENCY: Bureau of Reclamation, Interior.

ACTION: Notice of Availability for the Final Environmental Impact Report/Environmental Impact Statement/ (EIR/EIS).

SUMMARY: Pursuant to the National Environmental Policy Act (NEPA) and the California Environmental Quality Act (CEQA), the Bureau of Reclamation (Reclamation) and the Yuba County Water Agency (YCWA) have prepared the Final EIR/EIS for the Proposed Lower Yuba River Accord (Yuba Accord). The Final EIR/EIS contains responses to comments received on the Draft EIR/EIS.

The purpose of the Yuba Accord is to resolve instream flow issues associated with operation of the Yuba River Development Project (Yuba Project) in a way that protects and enhances lower Yuba River fisheries and local water-supply reliability. At the same time, it would provide revenues for local flood control and water supply projects, water for the CALFED Program to use for protection and restoration of Sacramento-San Joaquin Delta (Delta) fisheries, and improvements in statewide water supply management, including supplemental water for the Central Valley Project (CVP) and the State Water Project (SWP).

A Notice of Availability of the Draft EIR/EIS was published in the Federal Register on Monday, July 2, 2007 (72 FR 36036). The public review period on the Draft EIR/EIS ended on August 24, 2007.

DATES: Under NEPA, no Federal decision can be made until at least 30 days after release of the Final EIR/EIS. When Reclamation completes the Record of Decision, it will identify the action to be implemented.

Under CEQA, YCWA certified the Final EIR/EIS on October 23, 2007 and filed a Notice of Determination (NOD) with the State Clearinghouse.

ADDRESSES: Send requests for a compact disk or a bound copy of the Final EIR/EIS to Dianne Simodynes, HDR Surface Water Resources, Inc., 1610 Arden Way, Suite 175, Sacramento, CA 95815-4041, telephone: (916) 569-1096. The Yuba Accord Final EIR/EIS will also be available on the Web at: http://www.usbr.gov/mp/nepa/nepa_projdetails.cfm?Project_ID=2549.

FOR FURTHER INFORMATION CONTACT: Mr. Tim Rust, Bureau of Reclamation, Division of Resources Management, 2800 Cottage Way, Sacramento, CA 95825, at (916) 978-5516, or by e-mail at trust@mp.usbr.gov; or Mr. Curt Aikens, YCWA, at 1220 F Street, Marysville, CA 95901, at (530) 741-6278, or by e-mail at caikens@ycwa.com.

SUPPLEMENTARY INFORMATION: The Yuba Accord represents an effort on the part of the Yuba River stakeholders to find a solution to the challenges of competing interests by providing water for fisheries, developing new tools to ensure local reliable water supply, crafting a revenue stream to pay for the Yuba Accord, and providing additional water for out-of-county environmental and consumptive uses. These various objectives would be met through implementation of the Yuba Accord, which includes the “Principles of Agreement for Proposed Lower Yuba River Fisheries Agreement” (Fisheries Agreement), the “Principles of Agreement for Proposed Conjunctive Use Agreements” (Conjunctive Use Agreements), and the “Principles of Agreement for Proposed Long-term Transfer Agreement” (Water Purchase Agreement).

The Yuba Accord agreements are:

• A Fisheries Agreement among YCWA, California Department of Fish and Game, and the collective non-governmental organizations, with the U.S. Fish and Wildlife Service and the National Oceanic and Atmospheric Administration, National Marine Fisheries Service supporting the agreement. Under the Yuba Accord Fisheries Agreement, YCWA would revise the operation of the Yuba Project to provide instream flows in the lower Yuba River to protect and enhance fisheries and to increase downstream water supplies.

• Conjunctive Use Agreements between YCWA and water districts within Yuba County for the implementation of a comprehensive program of conjunctive use of surface water and groundwater supplies and actions to improve water use efficiencies.

• A Water Purchase Agreement among YCWA, the California Department of Water Resources (DWR), and Reclamation. Under this agreement, Reclamation and DWR would purchase water for the CALFED Environmental Water Account and for the CVP and SWP project uses.

All three of these agreements need to be in place for the Yuba Accord to be implemented.

The Final EIR/EIS analyzes the impacts of implementing the Yuba Accord on surface water hydrology, groundwater hydrology, water supply, hydropower, flood control, water quality, fisheries, wildlife, vegetation, special-status species, recreation, visual, cultural resources, Indian Trust Assets, air quality, land use, socioeconomic, growth inducement, and environmental justice resources and conditions. Alternatives evaluated in the Final EIR/EIS include the No Action Alternative, No Project Alternative, Proposed Project/Action Alternative (Yuba Accord Alternative), and Modified Flow Alternative. In addition, the Final EIR/EIS addresses other past, present, and reasonably foreseeable actions in conjunction with the implementation of the Yuba Accord, thus analyzing cumulative impacts. The Final EIR/EIS contains the comments received on the Draft EIR/EIS and responses to those comments.

Copies of the Final EIR/EIS are available for public review at the following locations:

• Bureau of Reclamation Library, 2800 Cottage Way, Sacramento, CA 95825.

• Yuba County Water Agency, 1220 F Street, Marysville, CA 95901.

• Department of Water Resources, Division of Environmental Services, 1416 Ninth Street, Sacramento, CA 95814.

• Sacramento Public Library, 828 I Street, Sacramento, CA 95814.

• Yuba County Library, 303 2nd Street, Marysville, CA 95901.

Dated: October 19, 2007.
Michael Jackson,
Acting Regional Director, Mid-Pacific Region.

[FR Doc. E7-24223 Filed 12-13-07; 8:45 am]

BILLING CODE 4310-MN-P